EXPORT-IMPORT BANK

[Public Notice EIB-2022-0020]

Application for Final Commitment for a Long-Term Loan or Financial Guarantee in Excess of $100 Million: AP089351XX

AGENCY: Export-Import Bank of the United States.

ACTION: Notice.

SUMMARY: This Notice is to inform the public, in accordance with the Export-Import Bank Act of 1945, as amended, the Export-Import Bank of the United States (“EXIM”) has received an application for final commitment for a long-term loan or financial guarantee in excess of $100 million. Comments received within the comment period specified below will be presented to the EXIM Board of Directors prior to final action on this Transaction.

Comments received within the comment period specified below will be presented to the EXIM Board of Directors prior to final action on this Transaction.

DATES: Comments must be received on or before December 13, 2022 to be assured of consideration before final consideration of the transaction by the Board of Directors of EXIM.

ADDRESSES: Comments may be submitted through Regulations.gov at WWW.REGULATIONS.GOV. To submit a comment, enter EIB-2022-0020 under the heading “Enter Keyword or ID” and select Search. Follow the instructions provided at the Submit a Comment screen. Please include your name, company name (if any) and EIB-2022-0020 on any attached document.

SUPPLEMENTARY INFORMATION:

Reference: AP089351XX.

Purpose and Use:

Brief description of the purpose of the transaction: The U.K. obligor is seeking EXIM financing to cover the procurement of two U.S. rocket launches and U.S. brokered launch and initial in-orbit insurance services to support the deployment of two communication satellites.

Brief non-proprietary description of the anticipated use of the items being exported: The U.K. obligor will use the U.S. rocket launches and U.S. brokered insurance services to deploy two communications satellites that will provide satellite connectivity for fixed and mobile services.

To the extent that EXIM is reasonably aware, the item(s) being exported are not expected to produce exports or provide services in competition with the exportation of goods or provision of services by a United States industry.

Parties:

Principal Suppliers: Space Exploration Technologies Corp, United Launch Services LLC and Aon International Space Brokers, a division of Aon Risk Services Inc. of Washington, DC.

Obligor: Viasat Technologies Ltd.

Guarantor(s): Viasat Inc.

Description of Items Being Exported: Launch Services and Insurance Services.

Information on Decision: Information on the final decision for this transaction will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

Joyce B. Stone,
Assistant Corporate Secretary.

[FR Doc. 2022-25151 Filed 11-17-22; 8:45 am]

BILLING CODE P